FEDERAL MARITIME COMMISSION

Sunshine Act Meeting

Agency Holding the Meeting: Federal Maritime Commission.

Time and Date: March 18, 2015; 10:00 a.m.

Place: 800 N. Capitol Street NW., First Floor Hearing Room, Washington, DC.

Status: The first portion of the meeting will be held in Open Session; the second in Closed Session.

Matters to be Considered:

Open Session

1. Briefing on Monitoring the Latin American Trades

Closed Session

1. Briefing on Consumer Affairs and Dispute Resolution Services Inter-Agency Outreach.

2. S. 2444—Howard Coble Coast Guard and Maritime Transportation Act of 2014.

Contact Person for More Information: Karen V. Gregory, Secretary, (202) 523 5725

Karen V. Gregory,
Secretary.

[FR Doc. 2015-05955 Filed 3-11-15; 4:15 pm]

BILLING CODE 6730-01-P